POSTAL SERVICE

Change in Rates and Classes of General Applicability for Competitive Products

AGENCY: Postal Service™.

ACTION: Notice of a change in rates of general applicability for competitive products.

SUMMARY: This notice sets forth changes in rates of general applicability for competitive products.

DATES: This action begins January 24, 2021.

FOR FURTHER INFORMATION CONTACT: Christopher C. Meyerson, 202-268-7820.

SUPPLEMENTARY INFORMATION: On October 9, 2020, pursuant to their authority under 39 U.S.C. 3632, the Governors of the Postal Service established prices and classification changes for competitive products. The Governors' Decision and the record of proceedings in connection with such decision are reprinted below in accordance with section 3632(b)(2).

Ruth Stevenson,
Chief Counsel, Federal Compliance.

Decision of the Governors of the United States Postal Service on Changes in Rates and Classes of General Applicability for Competitive International Products (Governors' Decision No. 20-4)

October 6, 2020

Statement of Explanation and Justification

Pursuant to authority under section 3632 of title 39, as amended by the Postal Accountability and Enhancement Act of 2006 (“PAEA”), we (1) establish new prices of general applicability for the Postal Service's shipping services (competitive products) and such changes in classifications as are necessary to define the new prices; (2) establish changes in country groups in rate tables for Priority Mail Express International (PMEI), Priority Mail International (PMI), International Priority Airmail (IPA), International Surface Air Lift (ISAL), Outbound Single-Piece First-Class Package Service (FCPIS), as provided in sections 2305.6, 2315.6, 2320.6, 2325.6, and 2335.6, respectively, of the Mail Classification Schedule; (3) make changes to the country price lists for international mail that appear in Part D of the Mail Classification Schedule; (4) establish changes in classifications concerning the minimum size limits of small packets when sent as IPA, ISAL, and FCPIS, as set forth in sections 2320.2, 2325.2, and 2335.2. The changes are described generally below, with a detailed description of the changes in the attachment. The attachment includes the draft Mail Classification Schedule sections with classification changes in legislative format, and new prices displayed in the price charts.

As shown in the nonpublic annex being filed under seal herewith, the changes we establish should enable each competitive product to cover its attributable costs (39 U.S.C. 3633(a)(2)) and should result in competitive products as a whole complying with 39 U.S.C. 3633(a)(3), which, as implemented by 39 CFR 3035.107(c), requires competitive products collectively to contribute a minimum of 8.8 percent to the Postal Service's institutional costs. Accordingly, no issue of subsidization of competitive products by market dominant products should arise (39 U.S.C. 3633(a)(1)). We therefore find that the new prices and classification changes are in accordance with 39 U.S.C. 3632-3633 and 39 CFR 3035.102.

I. International Expedited Services

International expedited services include Global Express Guaranteed (GXG) and Priority Mail Express International (PMEI). Overall, GXG prices will be subject to a 0.9 percent increase, and PMEI will be subject to an overall 3.6 percent increase. Commercial Plus prices will be equivalent to Commercial Base; however, deeper discounting may still be made available to customers through negotiated service agreements. Also, three additional country price groups are being added for PMEI. In order to better align the country groupings for PMEI based on volume and geography, the country groupings for PMEI will be realigned.

II. Priority Mail International

The overall increase for Priority Mail International (PMI) will be 5.1 percent. Commercial Plus prices will be equivalent to Commercial Base; however, deeper discounting may still be made available to customers through negotiated service agreements. Also, three additional country price groups are being added for PMI. In order to better align the country groupings for PMI based on volume and geography, the country groupings for PMI will be realigned.

III. International Priority Airmail and International Surface Air Lift

Published prices for International Priority Airmail (IPA) letters, flats and packets will increase by 74.1 percent. Published prices for International Surface Air Lift (ISAL) letters, flats, and packets will increase by 32.6 percent. One additional country price group is being added to both IPA and ISAL. In order to better align the country groupings for IPA and ISAL based on volume and geography, the country groupings for IPA and ISAL will be realigned. Also, the minimum size limits of small packets when sent as IPA or ISAL will be revised to conform to Universal Postal Union (UPU) standards. The minimum dimensions will be changed to 6 inches in length and 4 inches in height.

IV. Airmail M-Bags

The published prices for Airmail M-Bags will increase by 5.0 percent.

V. First-Class Package International ServiceTM

The overall increase for First-Class Package International Service (FCPIS) prices will be 4.8 percent. Commercial Plus prices will be equivalent to Commercial Base; however, deeper discounting will still be made available to customers through negotiated service agreements. Eleven additional country price groups are being added for FCPIS. In order to better align the country groupings for FCPIS based on volume and geography, the country groupings for FCPIS will be realigned. Also, the minimum size limits of small packets when sent as FCPIS will be revised to conform to Universal Postal Union (UPU) standards. The minimum dimensions will be changed to 6 inches in length and 4 inches in height.

VI. International Ancillary Services and Special Services

Prices for several international ancillary services will be increased, with an overall increase of 3.4 percent.

Order

The changes in prices and classes set forth herein shall be effective at 12:01 a.m. on January 24, 2021. We direct the Secretary to have this decision published in the Federal Register in accordance with 39 U.S.C. 3632(b)(2), and direct management to file with the Postal Regulatory Commission appropriate notice of these changes.

By The Governors:

/s/

Robert M. Duncan,

Chairman, Board of Governors.

United States Postal Service

Office of the Board of Governors

Certification of Governors' Vote on Governors' Decision No. 20-4

Consistent with 39 U.S.C. 3632(a), I hereby certify that, on October 6, 2020, the Governors voted on adopting Governors' Decision No. 20-4, and that a majority of the Governors then holding office voted in favor of that Decision.

Date: October 6, 2020.

/s/

Katherine Sigler,

Acting Secretary of the Board of Governors.

BILLING CODE 7710-12-P

[FR Doc. 2020-23152 Filed 10-19-20; 8:45 am]

BILLING CODE 7710-12-C